DEPARTMENT OF HEALTH AND HUMAN SERVICES

National Institutes of Health

National Institute of Nursing Research; Amended Notice of Meeting

Notice is hereby given of a change in the meeting of the National Institute of Nursing Research Special Emphasis Panel, June 7, 2002, 10 a.m. to June 7, 2002, 11 a.m., 1 Democracy, 6701 Democracy Blvd, Suite 707 MSC 4870, Bethesda, MD, 20892-4870 which was published in the Federal Register on June 12, 2002, 67; Number 113.

The meeting will be held on 6/28/2002; 3-3:30 instead of 6/7/2002. The meeting is closed to the public.

Dated: July 9, 2002.
LaVerne Y. Stringfield,
Director, Office of Federal Advisory Committee Policy.

[FR Doc. 02-17932 Filed 7-16-02; 8:45 am]

BILLING CODE 4140-01-M